SMALL BUSINESS ADMINISTRATION

[Declaration of Economic Injury Disaster #9R02]

Commonwealth of Pennsylvania

Allegheny County and the contiguous counties of Armstrong, Beaver, Butler, Washington and Westmoreland in the Commonwealth of Pennsylvania constitute an economic injury disaster loan area as a result of a severe storm (macro burst) and heavy rains that occurred on May 31, 2002. The storms produced strong winds and caused serious damages to a number of commercial buildings in the City of Pittsburgh and the surrounding communities. Eligible small businesses and small agricultural cooperatives without credit available elsewhere may file applications for economic injury assistance as a result of this disaster until the close of business on May 23, 2003 at the address listed below or other locally announced locations: Small Business Administration, Disaster Area 1 Office, 360 Rainbow Blvd., South 3rd Floor, Niagara Falls, NY 14303.

The interest rate for eligible small businesses and small agricultural cooperatives is 3.5 percent.

The number assigned for economic injury for this disaster is 9R0200 for Pennsylvania.

(Catalog of Federal Domestic Assistance Program No. 59002.)
Dated: August 22, 2002.
Hector V. Barreto,
Administrator.

[FR Doc. 02-22347 Filed 8-30-02; 8:45 am]

BILLING CODE 8025-01-P